DEPARTMENT OF ENERGY

Federal Energy Regulatory Commission

[Docket No. RP07-40-001]

El Paso Natural Gas Company; Notice of Tariff Filing

November 16, 2006.

Take notice that on November 7, 2006, El Paso Natural Gas Company (El Paso) resubmitted a complete set of three firm transportation agreements (TSAs) with Southwest Gas Corporation to correct for inadvertent errors contained in the copies originally submitted in Docket No. RP07-40-000 on October 31, 2006. El Paso states that it has also revised paragraph 6.1 in the marked version of all three TSAs to properly reflect additions and deletions.

Any person desiring to protest this filing must file in accordance with Rule 211 of the Commission's Rules of Practice and Procedure (18 CFR 385.211). Protests to this filing will be considered by the Commission in determining the appropriate action to be taken but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on November 20, 2006.

Magalie R. Salas,
Secretary.

[FR Doc. E6-19929 Filed 11-24-06; 8:45 am]

BILLING CODE 6717-01-P